DEPARTMENT OF LABOR

Employment and Training Administration

[TA-W-60,126]

Michelin North America Inc., BF Goodrich Tire Manufacturing, Opelika, AL; Notice of Affirmative Determination Regarding Application for Reconsideration

By application dated November 1, 2006, a company official requested administrative reconsideration of the Department of Labor's Notice of Negative Determination Regarding Eligibility to Apply for Worker Adjustment Assistance, applicable to workers and former workers of the subject firm. The determination was issued on October 19, 2006. On November 6, 2006, the Department's Notice of determination was published in the Federal Register (71 FR 65004).

The negative determination was based on the Department's finding that the subject firm did not separate or threaten to separate a significant number or proportion of workers as required by the Trade Act of 1974. A significant number or proportion of the workers in a firm or appropriate subdivision means at least three workers in a workforce of fewer than 50 workers, five percent of the workers in a workforce of over 50 workers, or at least 50 workers.

In the request for reconsideration, the company official provided additional information regarding worker separations.

The Department has carefully reviewed the company's request for reconsideration and has determined that the Department will conduct further investigation.

Conclusion

After careful review of the application, I conclude that the claim is of sufficient weight to justify reconsideration of the Department of Labor's prior decision. The application is, therefore, granted.

Signed at Washington, DC, November 15, 2006.
Elliott S. Kushner,
Certifying Officer, Division of Trade Adjustment Assistance.

[FR Doc. E6-19792 Filed 11-22-06; 8:45 am]

BILLING CODE 4510-30-P